Proclamation 9161 of August 29, 2014

Labor Day, 2014

By the President of the United States of America

A Proclamation

On Labor Day, we honor the legacy of our working women and men who have played a defining role in the American story and all those who carry forward our Nation's proud tradition of hard work, responsibility, and sacrifice. From assembly lines to classrooms, across highways and steel mills, American workers strengthen the foundation of our country and demonstrate that our economy grows best from the middle out.

For generations, working Americans have fought to build a better life for their families and a better future for their country. United in the cause of dignity and justice in the workplace, they organized for the workplace protections that have helped build the largest and most prosperous economy in the world, including the 40-hour workweek, overtime pay, and safe working conditions. Each hard-won victory, from laws establishing collective bargaining to those guaranteeing a minimum wage, has helped raise standards of living for people across our Nation and provided them with opportunities to climb the ladder of success.

In the same spirit of strength and resilience, Americans today have battled back from a financial crisis, a weakening economic foundation, and the worst recession of our lifetimes. We have brought manufacturing jobs back to America, invested in skills and education, and begun to lay the groundwork for stronger, more durable economic growth.

But we still have more work left to do to reverse the forces that have conspired against working Americans for decades. As we seek to strengthen our economy and our middle class, we must secure a better bargain for all—one where everyone who works hard in America has a chance to get ahead. I am committed to boosting economic mobility by empowering our workers and making sure an honest day's work is rewarded with an honest day's pay. My Administration is fighting for a fair minimum wage for every employee because nobody who works full-time should ever have to raise a family in poverty. We must also eliminate pay discrimination so women receive equal pay for equal work, combat unfair labor practices, and continue to defend the collective bargaining rights our parents and grandparents fought so hard for.

As we celebrate Labor Day, we reflect on the efforts of those who came before us to increase opportunity, expand the middle class, and build security for our families, and we rededicate ourselves to moving forward with this work in our time. We stand united behind our great American workforce as we lay the path for economic growth and prosperity.

NOW, THEREFORE, I, BARACK OBAMA, President of the United States of America, by virtue of the authority vested in me by the Constitution and the laws of the United States, do hereby proclaim September 1, 2014, as Labor Day. I call upon all public officials and people of the United States to observe this day with appropriate programs, ceremonies, and activities that honor the contributions and resilience of working Americans.

IN WITNESS WHEREOF, I have hereunto set my hand this twenty-ninth day of August, in the year of our Lord two thousand fourteen, and of the Independence of the United States of America the two hundred and thirty-ninth.

[FR Doc. 2014-21262

Filed 9-3-14; 11:15 am]

Billing code 3295-F4